Proclamation 9447 of May 13, 2016

National Hurricane Preparedness Week, 2016

By the President of the United States of America

A Proclamation

Each May, Americans set aside a week to raise awareness of the threat posed by hurricanes—storms that can devastate communities, neighborhoods, and local economies. The high winds, heavy rains, lightning, and tornadoes that can come with these powerful storms cause serious damage, but with proper preparation we can ensure the safety of ourselves and our loved ones. During National Hurricane Preparedness Week, we take deliberate action to safeguard our communities and work together to improve our resilience to hurricanes.

Our Nation is better prepared than ever before for today's storms. Our technology, forecasting, and models have improved, and we have new ways of disseminating vital warnings and storm-tracking information. Still, it is never too early to prepare for a potential disaster. I urge all Americans to visit www.Ready.gov and www.Hurricanes.gov/prepare to find key information on building an emergency supply kit and knowing what to do when disaster strikes. By having a plan ready, with ideas about how to respond to warnings, you can help avoid tragedy befalling you and your loved ones. Our communities are not resilient unless individuals have taken proper precautions.

Hurricane intensity and rainfall are projected to increase as a result of climate change. My Administration is dedicated to ensuring our resilience in response to these climate change-related impacts. We are working with the Congress, the private sector, and communities across America to build climate-resilient infrastructure, and we are cutting red tape to help those in need of recovery assistance better navigate the environmental reviews necessary to ensure a rapid and resilient recovery. The Federal Government is coordinating with State and local governments to ensure their climate action plans are up to date and to mitigate the worst effects of hurricanes—including through making buildings more resilient, home elevations, and improving drainage—so people are in a better position to avoid loss, damage, and interruption of critical services, and so our communities are in a better position to recover from storms. As a country, we continue to make strides in achieving the National Preparedness Goal of a secure and resilient Nation with the capabilities required across communities to prevent, protect against, mitigate, respond to, and recover from threats and hazards that pose the greatest risk.

This past summer, our Nation commemorated the 10th anniversary of Hurricane Katrina—a tragedy that claimed the lives of more than 1,800 of our fellow Americans. We all have a responsibility to step up and take action to protect our Nation from such devastating disasters. As we enter hurricane season, let us renew our commitment to that responsibility, and let us unite in common purpose to safeguard our communities.

NOW, THEREFORE, I, BARACK OBAMA, President of the United States of America, by virtue of the authority vested in me by the Constitution and the laws of the United States, do hereby proclaim May 15 through May 21, 2016, as National Hurricane Preparedness Week. I call upon government agencies, private organizations, schools, media, and residents in the areas of our Nation vulnerable to hurricanes to share information about preparedness and response to help save lives and protect their communities.

IN WITNESS WHEREOF, I have hereunto set my hand this thirteenth day of May, in the year of our Lord two thousand sixteen, and of the Independence of the United States of America the two hundred and fortieth.

[FR Doc. 2016-11924

Filed 5-17-16; 11:15 am]

Billing code 3295-F6-P